DEPARTMENT OF ENERGY

Federal Energy Regulatory Commission

Combined Notice of Filings #1

Take notice that the Commission received the following electric rate filings:

Docket Numbers: ER11-4304-001.

Applicants: Golden Spread Electric Cooperative, Inc.

Description: Amendment to Initial Tariff Filing to be effective 10/12/2011.

Filed Date: 2/24/12.

Accession Number: 20120224-5001.

Comments Due: 5 p.m. ET 3/16/12.

Docket Numbers: ER12-1151-000.

Applicants: Pacific Gas and Electric Company.

Description: Pacific Gas and Electric Company submits tariff filing per 35.13(a)(2)(iii: Two E&P Agreements under PG&E's Transmission Owner Tariff and Report to be effective 2/24/2012.

Filed Date: 2/23/12.

Accession Number: 20120223-5109.

Comments Due: 5 p.m. ET 3/15/12.

Docket Numbers: ER12-1152-000.

Applicants: Bounce Energy PA, LLC.

Description: Application for Market-Based Rate Authority to be effective 2/24/2012.

Filed Date: 2/24/12.

Accession Number: 20120224-5002.

Comments Due: 5 p.m. ET 3/16/12.

Docket Numbers: ER12-1153-000.

Applicants: Bounce Energy NY, LLC.

Description: Application for Market-Based Rate Authority to be effective 2/24/2012.

Filed Date: 2/24/12.

Accession Number: 20120224-5003.

Comments Due: 5 p.m. ET 3/16/12.

Docket Numbers: ER12-1154-000.

Applicants: ISO New England Inc., New England Power Pool Participants Committee.

Description: Revisions to FCM Rules Related to De-List Bids to be effective 5/1/2012.

Filed Date: 2/24/12.

Accession Number: 20120224-5067.

Comments Due: 5 p.m. ET 3/16/12.

Docket Numbers: ER12-1155-000.

Applicants: ISO New England Inc., New England Power Pool Participants Committee.

Description: MR 1 Revisions Relating to Coordinated Transaction Scheduling to be effective 12/31/9998.

Filed Date: 2/24/12.

Accession Number: 20120224-5091.

Comments Due: 5 p.m. ET 3/16/12.

Docket Numbers: ER12-1156-000.

Applicants: New York Independent System Operator, Inc., Niagara Mohawk Power Corporation.

Description: Agreement No. 1852, Niagara Mohawk and Griffiss Utility Services Corp IA to be effective 1/1/2012.

Filed Date: 2/24/12.

Accession Number: 20120224-5092.

Comments Due: 5 p.m. ET 3/16/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2012.
Nathaniel J. Davis, Sr.,
Deputy Secretary.

[FR Doc. 2012-5240 Filed 3-2-12; 8:45 am]

BILLING CODE 6717-01-P